DEPARTMENT OF LABOR

Employment and Training Administration

[TA-W-63,730; TA-W-63,730A]

Chesapeake Hardwood Products, Inc., Chesapeake, VA, Including an Employee in Support of Chesapeake Hardwood Products, Inc., Chesapeake, VA, Located in San Antonio, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on September 12, 2008, applicable to workers of Chesapeake Hardwood Products, Inc., Chesapeake, Virginia. The notice was published in the Federal Register on May 15, 2008 (72 FR 28169-28170). The notice was published in the Federal Register on September 24, 2008 (73 FR 55136).

At the request of the State agency, the Department reviewed the certification for workers of the subject firm. The workers are engaged in the production of hardwood panels used in cabinetry and furniture.

New information shows that a worker separation has occurred involving an employee (Mr. Wayne Noll) located in San Antonio, Texas, in support of and under the control of Chesapeake Hardwood Products, Inc., Chesapeake, Virginia.

Based on these findings, the Department is amending this certification to include an employee in support of the Chesapeake, Virginia location of the subject firm located in San Antonio, Texas.

The intent of the Department's certification is to include all workers employed at Chesapeake Hardwood Products, Inc., Chesapeake, Virginia who were adversely-impacted by increased imports of hardwood panels used in cabinetry and furniture.

The amended notice applicable to TA-W-63,730 is hereby issued as follows:

All workers of Chesapeake Hardwood Products, Inc., Chesapeake, Virginia (TA-W-63,730), including an employee in support of Chesapeake Hardwood Products, Inc., Chesapeake, Virginia, located in San Antonio, Texas (TA-W-63,730A), who became totally or partially separated from employment on or after July 18, 2007, through September 12, 2010, are eligible to apply for adjustment assistance under Section 223 of the Trade Act of 1974, and are also eligible to apply for alternative trade adjustment assistance under Section 246 of the Trade Act of 1974.

Signed at Washington, DC this 4th day of December 2008.
Richard Church,
Certifying Officer, Division of Trade Adjustment Assistance.

[FR Doc. E8-29611 Filed 12-12-08; 8:45 am]

BILLING CODE 4510-FN-P